DEPARTMENT OF THE TREASURY

Submission for OMB Review; Comment Request

May 15, 2002.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before June 24, 2002, to be assured of consideration.

Internal Revenue Service (IRS)

OMB Number: 1545-0058.

Form Number: IRS Form 1028.

Type of Review: Extension.

Title: Application for Recognition of Exemption Under Section 521 of the Internal Revenue Code.

Description: Farmers' cooperatives must file Form 1028 to apply for exemption from Federal income tax as being organizations described in Internal Revenue Code (IRC) section 521. The information on Form 1028 provides the basis for determining whether the applicants are exempt.

Respondents: Business or other for-profit.

Estimated Number of Respondents/Recordkeepers: 50.

Estimated Burden Hours Per Respondent/Recordkeeper:

Recordkeeping: 44 hr., 14 min.

Learning about the law or the form: 1 hr., 43 min.

Preparing the form: 4 hr., 23 min.

Copying, assembling, and sending the form to the IRS: 32 min.

Frequency of Response: On occasion.

Estimated Total Reporting/Recordkeeping Burden: 2,545 hours.

OMB Number: 1545-0922.

Form Number: IRS Forms 8329 and 8330.

Type of Review: Extension.

Title: Form 8329: Lender's Information Return for Mortgage Credit Certificates (MCCs); and Form 8330: Issuer's Quarterly Information Return for Mortgage Credit Certificates (MCCs).

Description: Form 8329 is used by lending institutions and Form 8330 is used by state and local governments to report on mortgage credit certificates (MCCs) authorized under Internal Revenue Code (IRC) section 25. IRS matches the information supplied by lenders and issuers to ensure that the credit is computed properly.

Respondents: Business or other for-profit, State, Local or Tribal Institutions.

Estimated Number of Respondents/Recordkeepers: 10,500.

Estimated Burden Hours Per Respondent/Recordkeeper:

| Form 8329 | Form 8330
Recordkeeping | 3 hr., 35 min | 4 hr., 32 min.
Learning about the law or the form | 1 hr., 0 min | 1 hr., 17 min.
Preparing and sending the form to the IRS | 1 hr., 6 min | 1 hr., 25 min.

Frequency of Response: Quarterly (8330), Annually (8329).

Estimated Total Reporting/Recordkeeping Burden: 71,320 hours.

Clearance Officer: Glenn Kirkland, Internal Revenue Service, Room 6411-03, 1111 Constitution Avenue, NW., Washington, DC 20224.

OMB Reviewer: Alexander T. Hunt, Office of Management and Budget, Room 10202, New Executive Office Building, Washington, DC 20503, (202) 395-7860.

Lois K. Holland,
Departmental Reports Management Officer.

[FR Doc. 02-12890 Filed 5-22-02; 8:45 am]

BILLING CODE 4830-01-P